DEPARTMENT OF THE INTERIOR

Bureau of Land Management

[LLORB00000.L10200000. BS0000.LXSSH1060000. 19X.HAG 19-0089]

Notice of Public Meeting for the Southeast Oregon Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Southeast Oregon Resource Advisory Council (RAC) will meet as indicated below.

DATES: The Southeast Oregon RAC will meet via teleconference on Wednesday, August 21, 2019, from 9:00 a.m. to noon Mountain Time.

ADDRESSES: The telephone conference line number for the meeting is 1-877-922-8971, Participant Code: 5867492.

FOR FURTHER INFORMATION CONTACT: Larisa Bogardus; Public Affairs Officer; 3100 H Street, Baker City, Oregon 97814; telephone: 541-523-1407; email: lbogardus@blm.gov. Persons who use a telecommunications device for the deaf (TDD) may call the Federal Relay Service (FRS) at 1-800-877-8339 to contact Ms. Bogardus during normal business hours. The FRS is available 24 hours a day, 7 days a week, to leave a message or question. You will receive a reply during normal business hours.

SUPPLEMENTARY INFORMATION: The 15-member Council advises the Secretary of the Interior, through the BLM, on a variety of planning and management issues associated with public land management in Southeast Oregon. The members provide diverse perspectives in commodity, conservation, and general interests.

The meeting will include review and discussion of potential formal comments regarding the Southeastern Oregon Resource Management Plan Amendment Draft Environmental Impact Statement as part of the public participation process.

A final agenda will be posted online at https://www.blm.gov/get-involved/resource-advisory-council/near-you/oregon-washington/southeast-oregon-rac at least 1 week prior to the teleconference.

All meetings are open to the public in their entirety and a public comment period is scheduled for 10:15 a.m. to 10:45 a.m. The public may address the RAC during the public comment period or submit a written statement no later than August 16, 2019. Written comments should be sent to the BLM Public Affairs Officer at the address listed in the FOR FURTHER INFORMATION CONTACT section of this Notice. All comments received will be provided to the Southeast Oregon RAC prior to the meeting. Before including your address, phone number, email address, or other personal identifying information in your comments, please be aware that your entire comment—including your personal identifying information—may be made publicly available at any time. While you can ask us in your comment to withhold your personal identifying information from public review, we cannot guarantee that we will be able to do so.

Authority: 43 CFR 1784.4-2

Jeffrey Rose,
Burns District Manager.

[FR Doc. 2019-15841 Filed 7-24-19; 8:45 am]

BILLING CODE 4310-33-P